DEPARTMENT OF ENERGY

Federal Energy Regulatory Commission

Combined Notice of Filings #1

Take notice that the Commission received the following electric corporate filings:

Docket Numbers: EC21-41-000.

Applicants: AES Southland Energy, LLC.

Description: Application for Authorization Under Section 203 of the Federal Power Act of AES Southland Energy, LLC, on behalf of its Public Utility Subsidiaries.

Filed Date: 1/8/21.

Accession Number: 20210108-5240.

Comments Due: 5 p.m. ET 1/29/21.

Docket Numbers: EC21-42-000.

Applicants: BEP SF Holdings, LLC, Horseshoe Bend Wind, LLC, North Hurlburt Wind, LLC, South Hurlburt Wind, LLC.

Description: Application for Authorization Under Section 203 of the Federal Power Act of Horseshoe Bend Wind, LLC, et al.

Filed Date: 1/8/21.

Accession Number: 20210108-5242.

Comments Due: 5 p.m. ET 1/29/21.

Take notice that the Commission received the following exempt wholesale generator filings:

Docket Numbers: EG21-65-000.

Applicants: Trent River Solar, LLC.

Description: Self-Certification of Trent River Solar, LLC.

Filed Date: 1/8/21.

Accession Number: 20210108-5250.

Comments Due: 5 p.m. ET 1/29/21.

Docket Numbers: EG21-66-000.

Applicants: PGR Lessee P, LLC.

Description: PGR Lessee P, LLC submits a notice of self-certification of exempt wholesale generator status.

Filed Date: 1/8/21.

Accession Number: 20210108-5252.

Comments Due: 5 p.m. ET 1/29/21.

Take notice that the Commission received the following electric rate filings:

Docket Numbers: ER21-399-001.

Applicants: Southwest Power Pool, Inc.

Description: Tariff Amendment: 1887R10 Evergy Kansas Central, Inc. NITSA NOA—Elsmore to be effective 2/1/2021.

Filed Date: 1/11/21.

Accession Number: 20210111-5083.

Comments Due: 5 p.m. ET 2/1/21.

Docket Numbers: ER21-417-001.

Applicants: Southwest Power Pool, Inc.

Description: Tariff Amendment: 2881R11 City of Chanute, KS NITSA NOA to be effective 9/1/2020.

Filed Date: 1/11/21.

Accession Number: 20210111-5078.

Comments Due: 5 p.m. ET 2/1/21.

Docket Numbers: ER21-425-000.

Applicants: Copper Mountain Solar 5, LLC.

Description: Report Filing: Copper Mountain Solar 5 Informational Supplement to be effective N/A.

Filed Date: 1/8/21.

Accession Number: 20210108-5171.

Comments Due: 5 p.m. ET 1/29/21.

Docket Numbers: ER21-466-001.

Applicants: Southwest Power Pool, Inc.

Description: Tariff Amendment: 2415R13 Kansas Municipal Energy Agency NITSA and NOA to be effective 9/1/2020.

Filed Date: 1/11/21.

Accession Number: 20210111-5070.

Comments Due: 5 p.m. ET 2/1/21.

Docket Numbers: ER21-853-000.

Applicants: Midcontinent Independent System Operator, Inc.

Description: § 205(d) Rate Filing: 2021-01-11_SA 3304 Ameren-Lincoln Land Wind 1st Rev GIA (J757) to be effective 12/29/2020.

Filed Date: 1/11/21.

Accession Number: 20210111-5048.

Comments Due: 5 p.m. ET 2/1/21.

Docket Numbers: ER21-854-000.

Applicants: Southwestern Electric Power Company.

Description: § 205(d) Rate Filing: SWEPCO-NTEC Avinger Delivery Point Agreement to be effective 3/12/2021.

Filed Date: 1/11/21.

Accession Number: 20210111-5058.

Comments Due: 5 p.m. ET 2/1/21.

Docket Numbers: ER21-855-000.

Applicants: Pacific Gas and Electric Company.

Description: Tariff Cancellation: Termination of San Joaquin Cogen GSFA (SA 130) to be effective 3/13/2021.

Filed Date: 1/11/21.

Accession Number: 20210111-5068.

Comments Due: 5 p.m. ET 2/1/21.

Docket Numbers: ER21-856-000.

Applicants: PGR Lessee P, LLC.

Description: Baseline eTariff Filing: PGR Lessee P, LLC MBR Tariff to be effective 1/12/2021.

Filed Date: 1/11/21.

Accession Number: 20210111-5081.

Comments Due: 5 p.m. ET 2/1/21.

Docket Numbers: ER21-857-000.

Applicants: Trent River Solar, LLC.

Description: Baseline eTariff Filing: Trent River Solar, LLC MBR Tariff to be effective 1/12/2021.

Filed Date: 1/11/21.

Accession Number: 20210111-5082.

Comments Due: 5 p.m. ET 2/1/21.

Docket Numbers: ER21-858-000.

Applicants: Public Service Company of Colorado.

Description: § 205(d) Rate Filing: 2021-01-11 PSC-HLYCRS-APSISA-Eagle-608-0.1.0 to be effective 1/12/2021.

Filed Date: 1/11/21.

Accession Number: 20210111-5088.

Comments Due: 5 p.m. ET 2/1/21.

Docket Numbers: ER21-859-000.

Applicants: PJM Interconnection, L.L.C.

Description: Tariff Cancellation: Notice of Cancellation of WMPA, SA No. 5480; Queue No. AD2-002 to be effective 12/29/2020.

Filed Date: 1/11/21.

Accession Number: 20210111-5121.

Comments Due: 5 p.m. ET 2/1/21.

Docket Numbers: ER21-860-000.

Applicants: PJM Interconnection, L.L.C.

Description: § 205(d) Rate Filing: Original ISA No. 5871; Queue No. AD2-180 to be effective 12/11/2020.

Filed Date: 1/11/21.

Accession Number: 20210111-5122.

Comments Due: 5 p.m. ET 2/1/21.

Docket Numbers: ER21-861-000.

Applicants: Midcontinent Independent System Operator, Inc.

Description: § 205(d) Rate Filing: 2021-01-11_SA 3269 OTP-Tatanka Ridge Wind 2nd Rev GIA (J493) to be effective 12/23/2020.

Filed Date: 1/11/21.

Accession Number: 20210111-5145.

Comments Due: 5 p.m. ET 2/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2021
Nathaniel J. Davis, Sr.,
Deputy Secretary.

[FR Doc. 2021-00855 Filed 1-14-21; 8:45 am]

BILLING CODE 6717-01-P